ENVIRONMENTAL PROTECTION AGENCY

40 CFR Part 194

[FRL 7373-1]

RIN 2060-AJ07

Opportunity to Present Oral Testimony on the Agency's Proposed Alternative Provisions to the Compliance Criteria for the Waste Isolation Pilot Plant (WIPP); Notice of Public Hearings

AGENCY: Environmental Protection Agency.

ACTION: Notice of Public Hearings.

SUMMARY: The Environmental Protection Agency (“EPA,” or “the Agency” or “we”) is proposing to revise the “Criteria for the Certification and Recertification of the Waste Isolation Pilot Plant's Compliance with the Disposal Regulations,” which are used to determine whether the Department of Energy's Waste Isolation Pilot Plant (“WIPP”) will comply with EPA's “Environmental Radiation Protection Standards for Management and Disposal of Spent Nuclear Fuel, High-Level and Transuranic Radioactive Wastes.” The proposed revisions are as follows: addition of a mechanism to address minor changes to the provisions of the Compliance Criteria; changes to the approval process for waste characterization programs at Department of Energy transuranic sites; changes to allow for the submission of copies of compliance applications and reference materials in alternative format; and replacement of the term “process knowledge” with “acceptable knowledge.” The proposed changes do not lessen the requirements for complying with the Compliance Criteria. Moreover, these changes will have no effect on the technical approach that EPA employs when conducting independent inspections of the waste characterization capabilities at DOE waste generator sites. EPA is conducting this proposed action in accordance with the procedures for substituting alternative provisions of the Compliance Criteria.

The official proposed rule, entitled “40 CFR Part 194—Criteria for the Certification and Recertification of the Waste Isolation Pilot Plant's Compliance with the Disposal Regulations; Alternative Provisions,” was published in the Federal Register (67 FR 51930-51946) on August 9, 2002. The 120-day comment period for this action will conclude on December 9, 2002.

DATES: EPA will conduct public hearings to receive comments on the proposed revisions to the WIPP Compliance Criteria in Albuquerque, NM on September 24, from 1 p.m. to 5 p.m. and from 7 p.m. to 9 p.m.; and in Santa Fe, NM from 11 a.m. to 5 p.m. and from 7 p.m. to 9 p.m. For further information on registration and hearing procedures, please refer to SUPPLEMENTARY INFORMATION.

ADDRESSES: EPA's public hearings to accept comments on proposed revisions to the WIPP Compliance Criteria will be held on September 24, at the Albuquerque Convention Center, Picuris Room, 401 Second Street, NW., Albuquerque, NM; and on September 25, at the Hilton Hotel, Mesa A Room, 100 Sandoval Street, Santa Fe, NM.

Information on EPA's radioactive waste compliance criteria (40 CFR part 194), and other WIPP-related activities (including the proposed revisions and recertification) is listed under Dockets No. A-92-56, and A-98-49, respectively, and is available for review at the following three EPA WIPP docket locations in New Mexico: in Carlsbad at the Municipal Library, Hours: Mon-Thu, 10-9, Fri-Sat, 10-6, and Sun 1-5; in Albuquerque at the Government Publications Department, Zimmerman Library, University of New Mexico, Hours: Mon-Thu, 8-9, Fri, 8-5, Sat-Sun, 1-5; in Santa Fe at the New Mexico State Library (A-98-49 only), Hours: Mon-Fri, 9-5; and in Santa Fe at the Fogelson Library, College of Santa Fe (A-93-02 only), Hours: Mon-Thu, 8-Midnight, Fri, 8-5, Sat, 9-5, and Sun, 1-9. For purposes of judicial review, EPA's official docket for all rulemaking activities under the Waste Isolation Pilot Plant Land Withdrawal Act, as amended, is located in Washington, DC in the Air Docket, EPA Docket Center (EPA/DC), EPA West, Mail Code 6102T, 1200 Pennsylvania Avenue, NW., Washington, DC 20460.

In addition, the proposed rule and related documents may also be obtained online through EPA's new electronic docketing system, EDOCKET, which is available on the world wide web (http://www.epa.gov/edocket). The EDOCKET No. for this action is OAR-2002-0005. Interested parties can also view and obtain these documents through EPA's WIPP Web site (http://www.epa.gov/radiation/wipp) or call EPA's 24-hour toll-free WIPP Information Line, 1-800-331-WIPP for general information about the proposed revisions.

FOR FURTHER INFORMATION CONTACT: Rafaela Ferguson, Office of Radiation and Indoor Air, (202) 564-9362 or call EPA's EPA's contractor-operated, toll-free number 1-800-275-2209, Monday thru Friday between 9 a.m. and 5:30 p.m. Central Standard Time (CST).

SUPPLEMENTARY INFORMATION: The Waste Isolation Pilot Plant (“WIPP”) is a disposal system for transuranic radioactive waste. Developed by the Department of Energy (“DOE” or “the Department”), the WIPP is located near Carlsbad in southeastern New Mexico. Transuranic (TRU) wastes are emplaced 2,150 feet underground in an ancient layer of salt which will eventually “creep” and encapsulate waste containers. The WIPP has a total capacity of 6.2 million cubic feet of TRU waste. Congress authorized the development and construction of the WIPP in 1980.

The WIPP is the nation's first deep geological repository for the disposal of TRU waste generated by defense activities associated with nuclear weapons; no high level waste or spent nuclear fuel from the commercial power plants may be disposed at the WIPP. TRU waste is defined as material containing alpha-emitting radioisotopes, with half lives greater than twenty years and atomic numbers above 92, in concentrations greater than 100 nano-curies per gram of wastes.

Most TRU waste proposed for disposal at WIPP consists of items that have become contaminated as a result of activities associated with the production of nuclear weapons (or with the clean-up of weapons production facilities), e.g., rags, equipment, tools, protective gear, and organic and inorganic sludges. The waste proposed for disposal at WIPP is currently stored at Federal facilities across the United States, including locations in Colorado, Idaho, New Mexico, Nevada, Ohio, South Carolina, Tennessee, and Washington.

On February 9, 1996, EPA announced its final compliance criteria (40 CFR part 194) for determining whether the WIPP will comply with EPA's environmental radiation protection standards for the disposal of radioactive waste in 40 CFR part 191. The compliance criteria implemented the radiation protection standards by applying them to the proposed disposal of transuranic waste in the WIPP. The EPA was required by the WIPP Land Withdrawal Act of 1992 (Public Law 102-579) to evaluate whether the WIPP will comply with Subparts B and C of the 40 CFR part 191 (known as the “disposal regulations”) and issue or deny a certification of compliance.

On May 13, 1998, EPA announced its final compliance certification decision (published in the Federal Register on May 18, 1998, at 63 FR 27354). This decision states that the WIPP complies with the EPA's radioactive waste disposal regulations at 40 CFR part 191, subparts B and C.

As mandated by Congress in the WIPP Land Withdrawal Act, EPA has regulatory authority over many of DOE's WIPP-related activities for the operational lifetime of the facility, approximately 35 years. EPA must also recertify WIPP's compliance every five years; the first recertification decision will occur in 2004. DOE must report changes in activities or conditions at the WIPP that differ significantly from the information contained in the most recent compliance application. The Agency reviews such information as it is received to determine whether the “certification” must be modified, suspended, or revoked. In addition to review changes, EPA monitors the continued compliance of the WIPP facility and related waste characterization activities at the waste generator sites by conducting audits and inspections.

EPA is proposing to revise certain provisions of the Compliance Criteria at 40 CFR part 194. As outlined in the official Federal Register notice (67 FR 51930-51946), EPA is proposing to (1) Revise the process for establishing “alternative provisions” in § 194.6; (2) revise the approval process in § 194.8 for waste characterization processes at TRU waste generator sites for disposal at WIPP; (3) revise the requirements in §§ 194.12 and 194.13 for submission of compliance applications and reference materials; and (4) change the term “process knowledge” to “acceptable knowledge” in § 194.24(c)(3). The proposed revisions are intended to ensure that 40 CFR part 194 remains comprehensive, appropriate, and based upon current knowledge and information. The Agency is soliciting comments on this proposal.

Hearing Procedures

Testifiers are requested to pre-register by calling EPA's contractor-operated, toll-free number 1-800-275-2209, Monday thru Friday between 9 a.m. and 5:30 p.m. Central Standard Time (CST). Please provide the following information when registering: Name, organization (if any), address, hearing date and location, time(s) available to testify, and daytime telephone number. Registrations must be received by 12 p.m. CST, September 20, 2002, in order to guarantee an opportunity to testify. Speakers not registered in advance may register at the door and will be scheduled to testify, if openings are still available and time permits.

Individuals testifying on their own behalf will be allowed 5 minutes. One individual may testify as the official representative or spokesperson on behalf of groups and organization and will be allocated 10 minutes for an oral presentation. Time allowed is exclusive of any time consumed by questions from the government panel and answers to these questions. Written comments will be considered to the same extent as oral testimony and will be included as part of the official hearings transcripts. The hearing transcript will constitute the official record of the hearing. All written comments which are submitted outside of the public hearings must be received by the HQ EPA Air Docket (through EDOCKET, e-mail, regular mail, or fax) by December 9, 2002. These comments will also be given EPA's full consideration. Thus, all comments received by EPA, whether written or oral, will be given equal consideration in development of the final rule. [Note: The dockets in New Mexico only contain major items from the official docket (WDC) plus all those documents added to the official docket since October 1992 when the WIPP Land Withdrawal Act was enacted.] As provided in 40 CFR part 2, a reasonable fee may be charged for photocopying docket materials.

Dated: August 30, 2002.
Robert Brenner,
Acting Assistant Administrator for Air and Radiation.

[FR Doc. 02-22802 Filed 9-6-02; 8:45 am]

BILLING CODE 6560-50-P